ARCHITECTURAL AND TRANSPORTATION BARRIERS COMPLIANCE BOARD

36 CFR Part 1195

[Docket No. 2004-1]

RIN 3014-AA11

Americans With Disabilities Act (ADA) Accessibility Guidelines for Passenger Vessels; Informational Meeting

AGENCY: Architectural and Transportation Barriers Compliance Board.

ACTION: Notice of meeting.

SUMMARY: The Architectural and Transportation Barriers Compliance Board (Access Board) will hold two informational meetings. The meetings will assist the Access Board in developing accessibility guidelines under the Americans with Disabilities Act for passenger vessels. Specifically, the meetings will focus on possible approaches and methodologies for the regulatory assessment and regulatory flexibility act analysis, the baselines for determining costs, the identification of major and minor cost impacts, estimated unit costs (where feasible), development of aggregate annual industry costs, and benefits generated by the guidelines. The first meeting will focus only on large cruise ships and will be held at the date and location noted below. Other passenger vessels subject to the guidelines will be addressed in a similar meeting that has not yet been scheduled.

DATES: The meeting is scheduled for August 11, 2008 from 9 a.m. to 5 p.m. Registration by attendees is requested to be received by July 31, 2008.

ADDRESSES: The meeting will be held at the Access Board's offices, 1331 F Street, NW., Suite 1000, Washington, DC.

FOR FURTHER INFORMATION CONTACT: Paul Beatty, Office of Technical and Information Services, Architectural and Transportation Barriers Compliance Board, 1331 F Street, NW., Suite 1000, Washington, DC 20004-1111. Telephone number (202) 272-0012 (Voice); (202) 272-0082 (TTY). These are not toll-free numbers. E-mail address: pvag@access-board.gov.

SUPPLEMENTARY INFORMATION: On July 7, 2006, the Architectural and Transportation Barriers Compliance Board (Access Board) made available for public comment a revised draft of the accessibility guidelines for passenger vessels (70 FR 38563; July 7, 2006). In addition to receiving comment, the Board used the provisions in the revised draft to conduct 10 passenger vessel case studies to help determine the cost impacts of the provisions on newly constructed passenger vessels. From comments received on the 2006 draft and draft case study results, changes were made to the 2006 draft (and the case studies were revised to reflect current provisions). To complete development of a notice of proposed rulemaking (NPRM) regarding passenger vessel accessibility guidelines, the Board needs to complete its regulatory assessment and regulatory flexibility act analysis.

Two information meetings are planned to assist the Board in completing these activities. The meetings will focus on possible approaches and methodologies for the regulatory assessment and regulatory flexibility act analysis, the baselines for determining costs, the identification of major and minor cost impacts, estimated unit costs (where feasible), development of aggregate annual industry costs, and benefits generated by the guidelines.

The meeting on August 11, 2008, will focus on large cruise ships. Other passenger vessels subject to the guidelines will be addressed in a similar meeting that has not yet been scheduled but will be announced in the Federal Register. To support the August 11 meeting and future second meeting, the Board has placed in its docket and on its Web site (http://www.access-board.gov/pvaac/index.htm) a 2008 draft of the guidelines, current drafts of the 10 vessel case studies, a preliminary agenda for the August 11 meeting, and other related material.

The August 11 meeting is open to the public. Interested persons are requested to register by e-mail at pvag@access-board.gov by July 31, 2008, for space planning purposes. The Board is not accepting comment on the content of the 2008 draft, and is only making it available to support the meetings. When the NPRM is published, the Board will then solicit comments on the guidelines at that time. However, comments which identify provisions that trigger major costs and include the applicable costs will be accepted.

The meeting site is accessible to individuals with disabilities. Sign language interpreters, an assistive listening system, and computer assisted real-time transcription (CART) will be provided. Persons attending the meeting are requested to refrain from using perfume, cologne, and other fragrances for the comfort of other participants.

Lawrence W. Roffee,
Executive Director.

[FR Doc. E8-14950 Filed 7-3-08; 8:45 am]

BILLING CODE 8150-01-P